DEPARTMENT OF JUSTICE

Notice of Lodging of Proposed Consent Decree Under the Clean Air Act

On January 6, 2014, the Department of Justice lodged a proposed consent decree with the United States District Court for the Northern District of Texas in the lawsuit entitled United States v. Savoia, Inc., et al., Civil Action No. 3:12-CV-2344-B.

The United States filed this lawsuit under the Clean Air Act. The United States' complaint seeks injunctive relief and civil penalties for the importation and sale of recreational vehicles and highway motorcycles in violation of the Clean Air Act and its regulations. The consent decree requires defendants to pay a civil penalty of $120,000 (which amount was based on an assessment of ability to pay), to export or destroy certain vehicles in their inventory, and to certify that they are no longer engaging in Clean Air Act-regulated activities or otherwise to abide by the terms of a compliance plan (which is incorporated into the consent decree) to ensure future compliance with applicable Clean Air Act requirements.

The publication of this notice opens a period for public comment on the consent decree. Comments should be addressed to the Assistant Attorney General, Environment and Natural Resources Division, and should refer to United States v. Savoia, Inc., et al., D.J. Ref. No. 90-5-2-1-10243. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $6.50 (25 cents per page reproduction cost) payable to the United States Treasury.

Karen S. Dworkin,
Assistant Section Chief, Environmental Enforcement Section, Environment and Natural Resources Division.

[FR Doc. 2014-00436 Filed 1-13-14; 8:45 am]

BILLING CODE 4410-15-P